DEPARTMENT OF DEFENSE

Department of the Army

Proposed Collection; Comment Request

AGENCY: Deputy Chief of Staff for Personnel (DAPE-ZXI-RM), DoD.

ACTION: Notice.

In compliance with Section 3506(c)(2)(A) of the Paperwork Reduction Act of 1995, the Department of the Army announces a proposed public information collection and seeks public comment on the provisions thereof. Comments are invited on: (a) Whether the proposed collection of information is necessary for the proper performance of the functions of the agency, including whether the information shall have practical utility, (b) the accuracy of the agency's estimate of the burden of the proposed informationn collection; (c) ways to enhance the quality, utility, and clarity of the information to be collected; and (d) ways to minimize the burden of the information collection on respondents, including through the use of automated collection techniques or other forms of information technology.

DATES: Consideration will be given to all comments received by October 29, 2001.

ADDRESSES: Written comments and recommendations on the proposed information collection should be sent to Department of the Army, Military Traffic Management Command, 200 Stovall Street, Alexandria, Virginia 22332-5000, ATTN: MTIM-ITM (Eunice P. Anderson). Consideration will be given to all comments received within 60 days of the date of publication of this notice.

FOR FURTHER INFORMATION CONTACT: To request more information on this proposed information collection or to obtain a copy of the proposal and associated collection, instruments, please write to the above address, or call Department of the Army Reports Clearance Officer at (703) 614-0454.

Title: Department of Defense Standard Tender of Freight Services, MT Form 364-R, OMB Control Number 0704-0261.

Needs and Uses: The information derived from the DoD tenders on file with MTMC is used by MTMC subordinate commands and DoD shippers to select the best value carrier to transport about 1.1 million surface freight shipments annually. This information is also used to develop about 140,000 procurement rate quotations annually.

Affected Public: Business Or Other For-Profit.

Annual Burden Hours: 5,391.

Number of Respondents: 434.

Responses per Respondent: 13.

Average Burden per Response: 20 minutes.

Frequency: On occasion.

SUPPLEMENTARY INFORMATION: Freight carries furnish information in a uniform format so that the Government can determine the cost of transportation, accessorial, and security services and select the best value carriers for 1.1 million Bill of Lading shipments annually. Additionally, DoD tender rate and other pertinent tender data are noted on the Bill of Lading at the time of shipment. The DoD tender also is the source document for the General Services Administration post-shipment audit of carrier freight bills.

Luz D. Oritz,
Army Federal Register Liaison Officer.

[FR Doc. 01-21694 Filed 8-27-01; 8:45 am]

BILLING CODE 3710--8-M